DEPARTMENT OF COMMERCE

National Oceanic and Atmospheric Administration

RIN 0648-XU26

Endangered Species; File No. 14381

AGENCY: National Marine Fisheries Service (NMFS), National Oceanic and Atmospheric Administration (NOAA), Commerce.

ACTION: Issuance of permit.

SUMMARY: Notice is hereby given that NMFS Pacific Islands Region, 1601 Kapiolani Boulevard, Honolulu, HI 96814 has been issued a permit to take green (Chelonia mydas), leatherback (Dermochelys coriacea), loggerhead (Caretta caretta), olive ridley (Lepidochelys olivacea), and hawksbill (Eretmochelys imbricata) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Pacific Islands Region, NMFS, 1601 Kapiolani Blvd., Rm 1110, Honolulu, HI 96814-4700; phone (808)944-2200; fax (808)973-2941.

FOR FURTHER INFORMATION CONTACT: Kate Swails or Amy Hapeman, (301)713-2289.

SUPPLEMENTARY INFORMATION: On May 22, 2009, notice was published in the Federal Register (74 FR 23995) that a request for a scientific research permit had been submitted by the above-named organization. The requested permit has been issued under the authority of the Endangered Species Act of 1973, as amended (ESA; 16 U.S.C. 1531 et seq.) and the regulations governing the taking, importing, and exporting of endangered and threatened species (50 CFR parts 222-226).

The researchers will collect scientific data on sea turtles incidentally captured in the Hawaii Deep-Set Longline Fishery, the Hawaii Shallow-Set Longline Fishery, and the American Samoa Longline Fishery. These data will assist NMFS efforts to understand sea turtle interactions with the fisheries and to mitigate their threat to these species. The applicant will flipper tag, measure, photograph, tissue sample, and attach satellite tags to an anticipated annual take of up to 46 loggerhead, 16 leatherback, 1 green, and 4 olive ridley sea turtles captured in the Hawaii Shallow-Set Longline Fishery; up to 6 loggerhead, 6 leatherback, 12 green, 12 olive ridley, and 6 hawksbill sea turtles captured in the American Samoa Longline Fishery; and up to 6 (18 over three years) loggerhead, 13 (39 over three years) leatherback, 7 (21 over three years) green, and 41 (123 over three years) olive ridley sea turtles captured in the Hawaii Deep-Set Longline Fishery. The research will occur in the Pacific Ocean through the permit's expiration on March 1, 2015. No mortalities are expected from the research. Researchers would also collect sea turtle carcasses of animals killed in fishery activities that occur in the Pacific Ocean.

Issuance of this permit, as required by the ESA, was based on a finding that such permit (1) was applied for in good faith, (2) will not operate to the disadvantage of such endangered or threatened species, and (3) is consistent with the purposes and policies set forth in section 2 of the ESA.

Dated: February 12, 2010.
P. Michael Payne,
Chief, Permits, Conservation and Education Division, Office of Protected Resources, National Marine Fisheries Service.

[FR Doc. 2010-3274 Filed 2-18-10; 8:45 am]

BILLING CODE 3510-22-S